DEPARTMENT OF HEALTH AND HUMAN SERVICES

Meeting Notice for the President's Advisory Council on Faith-Based and Neighborhood Partnerships

In accordance with section 10(a)(2) of the Federal Advisory Committee Act (Pub. L. 92-463), the President's Advisory Council on Faith-based and Neighborhood Partnerships announces the following meetings:

Name: President's Advisory Council on Faith-based and Neighborhood Partnerships Council Meetings.

Time and Date: Monday, April 25th, 2016 12:30 p.m.-5 p.m. (EDT) and Tuesday, April 26th, 2016 10 a.m.-1 p.m. (EDT).

Place: Meeting will be held at a location to be determined in the White House complex, 1600 Pennsylvania Ave NW., Washington, DC. Space is extremely limited. Photo ID and RSVP by April 20, 2016 are required to attend the event. Please RSVP to Ben O'Dell at partnerships@hhs.gov.

The meeting will be available to the public through a conference call line. Register to participate in the conference call on Monday, April 25th at the Web site https://attendee.gotowebinar.com/register/911554886758464772. Register to participate in the conference call on Tuesday, April 26th at the Web site https://attendee.gotowebinar.com/register/7807447724588340484.

Status: Open to the public, limited only by space available. Conference call limited only by lines available.

Purpose: The Council brings together leaders and experts in fields related to the work of faith-based and neighborhood organizations in order to: Identify best practices and successful modes of delivering social services; evaluate the need for improvements in the implementation and coordination of public policies relating to faith- based and other neighborhood organizations; and make recommendations for changes in policies, programs, and practices.

Contact Person for Additional Information: Please contact Ben O'Dell for any additional information about the President's Advisory Council meeting at partnerships@hhs.gov.

Agenda: For April 25th, the agenda will begin with an Opening and Welcome from the Chairperson and Executive Director for the President's Advisory Council for Faith-based and Neighborhood Partnership. Then there will be presentation of any Recommendations for deliberation and vote. For April 26th, there will be presentations of any Recommendations for deliberation and vote after a welcome and opening from the Chairperson and Executive Director for the President's Advisory Council.

Public Comment: There will be an opportunity for public comment at the end of the meeting. Comments and questions can be sent in advance to partnerships@hhs.gov.

Dated: April 4th, 2016.
Ben O'Dell,
Associate Director for Center for Faith-based and Neighborhood Partnerships at U.S. Department of Health and Human Services.

[FR Doc. 2016-08150 Filed 4-7-16; 8:45 am]

BILLING CODE 4154-07-P